DEPARTMENT OF COMMERCE

International Trade Administration

[Docket No.: 170328324-7425-02; A-570-053]

Certain Aluminum Foil From the People's Republic of China: Notice of Extension of Time for Public Comment Regarding Status of the People's Republic of China as a Nonmarket Economy Country Under the Antidumping and Countervailing Duty Laws

AGENCY: Enforcement and Compliance, International Trade Administration, Department of Commerce.

ACTION: Notice; extension of comment period.

SUMMARY: In response to requests for additional time, the Department of Commerce (Department) is extending the closing deadline for submitting comments to a request for public comment and information entitled Certain Aluminum Foil From the People's Republic of China: Notice of Initiation of Inquiry Into the Status of the People's Republic of China as a Nonmarket Economy Country Under the Antidumping and Countervailing Duty Laws, 82 FR 16162 (April 3, 2017). In the request for public comment and information, and as part of the less-than-fair-value investigation of certain aluminum foil from the People's Republic of China (PRC), the Department is seeking broad input from the public regarding whether the PRC should continue to be treated as a nonmarket economy (NME) country under the antidumping and countervailing duty laws. The Department is seeking public comment and information with respect to the factors to be considered under the Tariff Act of 1930, as amended (the Act).

DATES: To be assured of consideration, written comments and information must be received no later than May 10, 2017.

ADDRESSES: You may submit comments and information by either of the following methods:

• Federal eRulemaking Portal: www.Regulations.gov. The identification number is ITA-2017-0002.

• Postal Mail/Commercial Delivery to Leah Wils-Owens, Department of Commerce, Enforcement and Compliance, Room 3720, 1401 Constitution Avenue NW., Washington, DC 20230 and reference “Inquiry Into the Status of the People's Republic of China as a Nonmarket Economy Country Under the Antidumping and Countervailing Duty Laws, ITA-2017-0002” in the subject line.

Instructions: You must submit comments by one of the above methods to ensure that the comments are received and considered. Comments sent by any other method, to any other address or individual, or received after the end of the comment period, may not be considered. All comments and information received are a part of the public record and will generally be posted to http://www.regulations.gov without change. All Personal Identifying Information (for example, name, address, etc.) voluntarily submitted by the commenter may be publicly accessible. Do not submit Confidential Business Information or otherwise sensitive or protected information. Any comments and information must be in English or be accompanied by English translations to be considered. The Department will accept anonymous comments (enter “N/A” in the required fields if you wish to remain anonymous). Attachments to electronic comments will be accepted in Microsoft Word, Excel, or Adobe PDF file formats only. Supporting documents and any comments we receive on this docket may be viewed at http://www.regulations.gov, using the search term “ITA-2017-0002”.

FOR FURTHER INFORMATION CONTACT: Albert Hsu at (202) 482-4491 or Daniel Calhoun at (202) 482-1439.

SUPPLEMENTARY INFORMATION: The Department has treated the PRC as an NME country under section 771(18) of the Act in all past antidumping duty investigations and administrative reviews.¹ The Department last reviewed the PRC's NME status in 2006 and determined to continue to treat the PRC as an NME country. As part of the less-than-fair-value investigation of certain aluminum foil from the PRC,² and pursuant to its authority under section 771(18)(C)(ii) of the Act, the Department initiated an inquiry into the PRC's status as an NME country.³ As part of this inquiry, the Department is interested in receiving public comment and information with respect to the PRC on the factors enumerated by section 771(18)(B) of the Act, which the Department must take into account in making a market/nonmarket economy determination.⁴

¹ See Certain Aluminum Foil from the People's Republic of China: Notice of Initiation of Inquiry Into the Status of the People's Republic of China as a Nonmarket Economy Country Under the Antidumping and Countervailing Duty Laws, 82 FR 16162 (April 3, 2017) (Initiation of Inquiry Notice).

² See Certain Aluminum Foil from the People's Republic of China: Initiation of Less-Than-Fair-Value Investigation, 82 FR 15691 (March 30, 2017).

³ Initiation of Inquiry Notice, 82 FR at 16163.

⁴ Id.

The original deadline for the submission of public comments and information was May 3, 2017.⁵ Instructions for commenters, including the specific types of information the Department is seeking, are available in the Initiation of Inquiry Notice. With this notice, the Department announces that the closing deadline for submission of public comment and information pertaining to the PRC's NME status is May 10, 2017.

⁵ Id.

This notice is issued and published pursuant to section 771(18)(C)(ii) of the Act.

Dated: April 27, 2017.
Ronald K. Lorentzen,
Acting Assistant Secretary for Enforcement and Compliance.

[FR Doc. 2017-08966 Filed 5-2-17; 8:45 am]

BILLING CODE 3510-DS-P